INTERNATIONAL TRADE COMMISSION

[Investigation No. 337-TA-1314]

Certain Computer Network Security Equipment and Systems, Related Software, Components Thereof, and Products Containing Same; Notice of Commission Determination Not To Review an Initial Determination Granting a Motion for Leave To Amend the Complaint and Notice of Investigation

AGENCY: U.S. International Trade Commission.

ACTION: Notice.

SUMMARY: Notice is hereby given that the U.S. International Trade Commission (“Commission”) has determined not to review an initial determination (“ID”) (Order No. 32) granting complainants' motion for leave to amend the complaint and notice of investigation to reflect a corporate name change.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On May 24, 2022, the Commission instituted this investigation based on a complaint, as amended and supplemented, filed on behalf of Centripetal Networks, Inc. of Reston, Virginia. 87 FR 31581-82 (May 24, 2022). The complaint alleged violations of section 337 of the Tariff Act of 1930, as amended, 19 U.S.C. 1337, based upon the importation into the United States, the sale for importation, and the sale within the United States after importation of certain computer network security equipment and systems, related software, components thereof, and products containing the same that infringe certain claims of U.S. Patent Nos. 9,264,370; 10,193,917; and 10,284,526. Id. at 31581. The complaint also alleged that a domestic industry exists. Id. The Commission's notice of investigation names as a respondent Keysight Technologies, Inc. of Santa Rosa, California. Id. The Office of Unfair Import Investigations (“OUII”) is participating in this investigation. Id.

On January 31, 2023, Centripetal Networks, Inc. filed an unopposed motion to amend the complaint and notice of investigation to reflect the complainant changing its corporate name from Centripetal Networks, Inc. to Centripetal Networks, LLC. No party filed a response to the motion.

On February 3, 2023, the ALJ issued an ID pursuant to Commission Rule 210.14(b)(1) (19 CFR 210.14(b)(1)), granting Complainants' motion for leave to amend the complaint and notice of investigation. No petitions for review of the ID were filed.

The Commission has determined not to review the subject ID.

The Commission vote for this determination took place on March 6, 2023.

The authority for the Commission's determination is contained in section 337 of the Tariff Act of 1930, as amended (19 U.S.C. 1337), and in part 210 of the Commission's Rules of Practice and Procedure (19 CFR part 210).

By order of the Commission.
Issued: March 6, 2023.
Lisa Barton,
Secretary to the Commission.

[FR Doc. 2023-04842 Filed 3-8-23; 8:45 am]

BILLING CODE 7020-02-P